DEPARTMENT OF STATE

[Public Notice 10162]

U.S. Advisory Panel to the U.S. Section of the North Pacific Anadromous Fish Commission (Notice of Renewal)

The Department of State has renewed the Charter of the U.S. Advisory Panel to the U.S. Section of the North Pacific Anadromous Fish Commission (NPAFC) for another two years.

The NPAFC was established by the Convention for the Conservation of Anadromous Stocks in the North Pacific Ocean, done at February 11, 1992, and entered into force on February 16, 1993. The members of the Commission are Canada, Japan, the Republic of Korea, the Russian Federation, and the United States. The U.S. Advisory Panel will continue to work with the U.S. Section of the Commission to promote the conservation of anadromous fish stocks, particularly salmon, throughout their migratory range in the North Pacific Ocean, as well as ecologically related species.

The U.S. Section of the Commission is composed of three Commissioners who are appointed by the President. Each Commissioner is appointed for a term not to exceed 4 years, but is eligible for reappointment. The Secretary of State, in consultation with the Secretary of Commerce, may designate alternate commissioners. The Advisory Panel to the U.S. Section is composed of 14 members, 11 of whom are appointed by the Secretary in consultation with the Secretary of Commerce. Advisory Panel members serve for a term not to exceed 4 years, and may not serve more than two consecutive terms.

The Advisory Panel will continue to follow the procedures prescribed by the Federal Advisory Committee Act (FACA). Meetings will continue to be open to the public unless a determination is made in accordance with Section 10 of the Federal Advisory Committee Act and 5 U.S.C. 552b(c) that a meeting or a portion of the meeting should be closed to the public.

FOR FURTHER INFORMATION CONTACT: For further information on the renewal of the Advisory Panel, please contact Elana Mendelson, Office of Marine Conservation in the Department of State, (202) 647-1073 or Katz-MinkEH@state.gov.

David A. Balton,
Deputy Assistant Secretary for Oceans and Fisheries, Department of State.

[FR Doc. 2017-22323 Filed 10-13-17; 8:45 am]

BILLING CODE 4710-09-P